DEPARTMENT OF HOMELAND SECURITY

Coast Guard

33 CFR Parts 100, 117 and 165

[USCG-2003-16436]

Quarterly Listings; Safety Zones, Security Zones, Special Local Regulations and Drawbridge Operation Regulations

AGENCY: Coast Guard, DHS.

ACTION: Notice of temporary rules issued.

SUMMARY: This document provides required notice of substantive rules issued by the Coast Guard and temporarily effective between July 1, 2003 and September 30, 2003, that were not published in the Federal Register. This quarterly notice lists temporary local regulations, drawbridge operation regulations, security zones, and safety zones, all of limited duration and for which timely publication in the Federal Register was not possible.

DATES: This notice is effective November 5, 2003.

ADDRESSES: The Docket Management Facility maintains the public docket for this notice. Documents indicated in this notice will be available for inspection or copying at the Docket Management Facility, U.S. Department of Transportation, Room PL-401, 400 Seventh Street, SW., Washington, DC 20593-0001 between 9 a.m. and 5 p.m., Monday through Friday, except Federal Holidays. You may electronically access the public docket for this notice on the Internet at http://www.dms.dot.gov.

FOR FURTHER INFORMATION CONTACT: For questions on this notice contact Lt. Jeff Bray, Office of Regulations and Administrative Law, telephone (202) 267-2830. For questions on viewing, or on submitting material to the docket, contact Andrea M. Jenkins, Program Manager, Docket Operations, telephone 202-366-0271.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Drawbridge operation regulations authorize changes to drawbridge schedules to accommodate bridge repairs, seasonal vessel traffic, and local public events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these special local regulations, drawbridge operation regulations, security zones, or safety zones by Coast Guard officials' on-scene prior to any enforcement action. However, the Cost Guard, by law, must publish in the Federal Register notice of substantive rules adopted. To meet this obligation without imposing undue expense on the public, the Coast Guard periodically publishes a list of these special local regulations, security zones, safety zones and temporary drawbridge operation regulations. Permanent rules are not included in this list because they are published in their entirety in the Federal Register. Temporary rules are also published in their entirety if sufficient time is available to do so before they are placed in effect or terminated. The safety zones, special local regulations, security zones and drawbridge operation regulations listed in this notice have been exempted from review under Executive Order 12866, Regulatory Planning and Review, because of their emergency nature, or limited scope and temporary effectiveness.

The following rules were placed in effect temporarily during the period from July 1, 2003, through September 30, 2003, unless otherwise indicated.

S. G. Venckus,
Chief, Office of Regulations and Administrative Law.

District Quarterly Report—3rd Quarter 2003
District docket | Location | Type | Effective date
01-03-014 | Hingham, MA | Safety Zone | 7/5/2003
01-03-018 | Lynn Fourth of July Fireworks, Lynn MA | Safety Zone | 7/3/2003
01-03-067 | Middletown, CT | Safety Zone | 7/4/2003
01-03-072 | Police Athletics Fireworks, Westport, CT | Safety Zone | 7/3/2003
01-03-073 | Norwalk Fireworks Display, Norwalk, CT | Safety Zone | 7/3/2003
01-03-074 | Riverfest 2003, Hartford, CT | Safety Zone | 7/5/2003
01-03-075 | Stratford Fireworks Display, Stratford, CT | Safety Zone | 7/3/2003
01-03-076 | Town of Norwick Fireworks, Norwick, CT | Safety Zone | 7/3/2003
01-03-078 | Coast Guard Activities New York | Safety Zone | 8/9/2003
01-03-079 | Branford, CT | Safety Zone | 7/27/2003
01-03-084 | Old Black Point Beach Fireworks, Niantic, CT | Safety Zone | 8/16/2003
01-03-085 | Port Jefferson, NY | Safety Zone | 8/15/2003
01-03-088 | Summer Music Fireworks, Waterford, CT | Special Local Reg | 8/16/2003
01-03-089 | Salem Heritage Days Fireworks, Salem, MA | Safety Zone | 8/16/2003
01-03-090 | South Boston, MA | Safety and Security | 9/15/2003
05-03-076 | Northeast River, North East, MD | Special Local Reg | 7/3/2003
05-03-077 | Atlantic Ocean, Assawoman Bay, OC, MD | Safety Zone | 7/4/2003
05-03-079 | Atlantic Ocean, Ocean City, MD | Safety Zone | 7/4/2003
05-03-080 | Atlantic Ocean, Isle of Wight Bay, OC, MD | Safety Zone | 7/4/2003
05-03-081 | Chesa, Bay, James River, Newport News, VA | Safety Zone | 7/4/2003
05-03-082 | Patuxent River, Solomons, MD | Special Local Reg | 7/4/2003
05-03-083 | Middle River, Baltimore County, MD | Special Local Reg | 7/5/2003
05-03-085 | Atlantic Ocean, Chesapeake & Delaware Canal | Security Zone | 7/2/2003
05-03-086 | Atlantic Ocean, Chesa. Bay, Linkhorn Bay, VA | Safety Zone | 7/4/2003
05-03-087 | Atlantic Ocean, Chesa. Bay, Chicka. River, VA | Safety Zone | 7/4/2003
05-03-088 | Atlantic Ocean, Chesa. Bay, Piankatank R., VA | Safety Zone | 7/4/2003
05-03-089 | Atlantic Ocean, Chesapeake Bay, VA | Safety Zone | 7/4/2003
05-03-094 | Georgetown Channel, Potomac River, Wash, D.C | Safety/Security Zone | 7/4/2003
05-03-096 | Norfolk Harbor Reach, VA | Security Zone | 7/12/2003
05-03-097 | Atlantic Ocean, Atlantic City, NJ | Special Local Reg | 7/20/2003
05-03-100 | Intracoastal Waterway, VA | Safety Zone | 7/21/2003
05-03-104 | Pamlico River, Washington, NC | Special Local Reg | 8/1/2003
05-03-106 | Chesapeake Bay, Hampton Roads, VA | Security Zone | 7/24/2003
05-03-109 | Sunset Lake, Wildwood Crest, NJ | Special Local Reg | 9/27/2003
05-03-114 | Ocean City, MD | Safety Zone | 8/6/2003
05-03-115 | Chesapeake Bay, Hampton, VA | Safety Zone | 8/7/2003
05-03-120 | Intracoastal Waterway, VA | Safety Zone | 8/4/2003
05-03-123 | Patapsco River and Tributaries, MD | Safety/Security Zone | 8/10/2003
05-03-127 | Chesapeake Bay, Hampton Roads, VA | Security Zone | 8/20/2003
05-03-128 | Martins Creek, Tullytown, PA | Special Local Reg | 9/20/2003
05-03-134 | Chesapeake Bay, Hampton, VA | Safety Zone | 8/28/2003
05-03-135 | Chesapeake Bay, Hampton Roads, VA | Security Zone | 9/1/2003
05-03-136 | Chesapeake Bay, Hampton Roads, VA | Security Zone | 8/31/2003
05-03-137 | Chesapeake Bay, Hampton Roads, VA | Security Zone | 9/7/2003
05-03-138 | Chesapeake Bay, Hampton Roads, VA | Security Zone | 9/14/2003
05-03-139 | Chesapeake Bay, Hampton Roads, VA | Security Zone | 9/20/2003
05-03-140 | Chesapeake Bay, Hampton Roads, VA | Security Zone | 9/24/2003
05-03-141 | Chesapeake Bay, Hampton Roads, VA | Security Zone | 9/28/2003
05-03-142 | All Waters Within Capt. of Port Wilmington | Safety Zone | 9/16/2003
05-03-143 | Hurricane Isabel Port Condition Yankee | Safety Zone | 9/17/2003
05-03-144 | Chesapeake Bay and Its Tributaries | Safety Zone | 9/18/2003
05-03-145 | Delaware River and Bay, Schuylkill River | Safety Zone | 9/18/2003
05-03-146 | Strategic Booming Exercise in Corson's Inlet | Safety Zone | 9/25/2003
05-03-147 | Captain of the Port Zone Hampton Roads, VA | Safety Zone | 9/17/2003
05-03-148 | Chesapeake Bay, Hampton Roads, VA | Security Zone | 9/25/2003
05-03-149 | COTP Wilmington Zone | Safety Zone | 9/22/2003
05-03-152 | Patapsco River, Baltimore, MD | Safety Zone | 9/26/2003
09-03-119 | Milwaukee River, Milwaukee, WI | Safety Zone | 9/20/2003
09-03-221 | Lake Michigan, Dune Acres, IN | Safety Zone | 7/5/2003
09-03-234 | Muskego Air Fair, Muskego, MI | Safety Zone | 7/3/2003
09-03-237 | Lake Michigan, Chicago, IL | Safety Zone | 7/4/2003
09-03-239 | Put-in-Bay, OH, Lake Erie | Safety Zone | 7/4/2003
09-03-240 | Eagle Creek Marina, Lake Ontario, Kendall, NY | Safety Zone | 7/5/2003
09-03-242 | Lake Ontario, Olcott Harbor, Olcott, NY | Safety Zone | 7/3/2003
09-03-243 | Rocky River, Ohio, Lake Erie | Safety Zone | 7/5/2003
09-03-244 | Lake Michigan, Chicago, IL | Safety Zone | 7/13/2003
09-03-246 | Sheboygan, WI | Safety Zone | 7/15/2003
09-03-247 | Port Washington, WI | Safety Zone | 7/27/2003
09-03-251 | New Buffalo, MI | Safety Zone | 8/2/2003
09-03-252 | CG Festival Venetian Parade, Grand Haven, MI | Safety Zone | 7/26/2003
09-03-255 | Oswego Harbor, Oswego, NY | Safety Zone | 7/26/2003
09-03-262 | Elgin, IL | Safety Zone | 8/14/2003
09-03-263 | Presque Isle Bay, Erie, PA | Safety Zone | 8/16/2003
09-03-264 | Cleveland, OH | Safety Zone | 8/29/2003
09-03-266 | Lake Michigan, Frankfort, MI | Safety Zone | 9/2/2003
09-03-267 | Niagra River, Buffalo, NY | Safety Zone | 9/6/2003
09-03-269 | Head of the Cuyahoga Regatta, Cleveland, OH | Safety Zone | 9/20/2003
09-03-270 | Fox River, Green Bay, WI | Safety Zone | 9/5/2003
09-03-271 | Trenton Channel, MI | Safety Zone | 9/27/2003
09-03-272 | Motor Vessel Vancouverborg, WI | Safety Zone | 9/13/2003
09-03-273 | Marinette, WI | Safety Zone | 9/20/2003
09-03-274 | River Raisin, Monroe, MI | Security Zone | 9/15/2003
09-03-276 | COTP Detroit Zone, Renaissance Center | Security Zone | 9/28/2003
09-03-282 | Green Bay, WI | Safety Zone | 7/25/2003
09-03-298 | Tall Ships Challenge 2003, Muskegon, MI | Safety Zone | 8/6/2003
09-03-301 | Milwaukee, WI | Safety Zone | 8/30/2003
09-03-302 | Milwaukee, WI | Safety Zone | 8/31/2003
11-03-002 | China Basin, San Francisco, CA | Drawbridge Reg | 7/27/2003
13-03-019 | Fireworks Display in Coos, Bay, OR | Safety Zone | 7/4/2003
13-03-020 | Puget Sound, WA | Security Zone | 7/14/2003
13-03-024 | Milwaukee, OR | Safety Zone | 7/26/2003
13-03-030 | Portland, OR | Security Zone | 8/21/2003
13-03-031 | Kennewick, WA | Security Zone | 8/22/2003
13-03-032 | Portland, OR | Security Zone | 8/21/2003
13-03-033 | Lake Washington, WA | Security Zone | 8/22/2003

COTP Quarterly Report—3rd Quarter 2003
COTP docket | Location | Type | Effective date
Charleston 03-140 | Charleston Harbor, Cooper River, SC | Security Zone | 9/2/2003
Charleston 03-142 | Charleston, SC | Safety Zone | 9/17/2003
Corpus Christi 03-002 | Corpus Christi Ship Channel, Corpus Christi | Safety Zone | 8/28/2003
Corpus Christi 03-005 | Corpus Christi, TX | Safety Zone | 9/2/2003
Houston-Galveston 03-005 | Galveston, TX | Safety Zone | 9/16/2003
Huntington 03-001 | Marietta, OH | Safety Zone | 7/4/2003
Huntington 03-003 | River M 0.0 TO 4.0, Charleston, WV | Security Zone | 9/15/2003
Jacksonville 03-097 | St. Johns River, Palatka, FL | Safety Zone | 7/4/2003
Jacksonville 03-098 | Indian River, 4th of July Celeb, Cocoa, FL | Safety Zone | 7/4/2003
Jacksonville 03-099 | Intracoastal Waterway, Melbourne, FL | Safety Zone | 7/4/2003
Jacksonville 03-100 | St. Johns River, Jacksonville, FL | Safety Zone | 7/4/2003
Jacksonville 03-101 | St. Johns River, Orange Park, Jacksonville, FL | Safety Zone | 7/4/2003
Jacksonville 03-102 | St. Johns River, Orange Park, FL | Safety Zone | 7/4/2003
Jacksonville 03-103 | Halifax River, Ormond Beach, FL | Safety Zone | 7/4/2003
Jacksonville 03-104 | Atlantic Ocean, Daytona Beach, FL | Safety Zone | 7/4/2003
Jacksonville 03-105 | Matanzas River, St. Augustine, FL | Safety Zone | 7/4/2003
Jacksonville 03-106 | Atlantic Ocean, Jacksonville, FL | Safety Zone | 7/4/2003
Jacksonville 03-107 | Atlantic Ocean, Cocoa Beach, FL | Safety Zone | 7/4/2003
Jacksonville 03-108 | W. Lake Tohopekaliga, Kissimmee, FL | Safety Zone | 7/4/2003
Jacksonville 03-109 | Sanford Marina, Lake Monroe Har., Sanford, FL | Safety Zone | 7/4/2003
Jacksonville 03-110 | Lake Eustis, FL | Safety Zone | 7/5/2003
Jacksonville 03-111 | Lake Dora, Mount Dora, FL | Safety Zone | 7/4/2003
Jacksonville 03-125 | Sisters Creek, Jacksonville, FL | Safety Zone | 7/19/2003
LA-LB 03-003 | Water Ski Races, Long Beach, CA | Safety Zone | 9/6/2003
Louisville 03-005 | Louisville, KY | Safety Zone | 7/27/2003
Louisville 03-006 | Aurora, IN | Safety Zone | 8/23/2003
Louisville 03-010 | Ohio River, M 602.0 to 604.0, Louisville, KY | Safety Zone | 9/20/2003
Louisville 03-011 | Ohio River, M 469.5 to 470.5, Cincinnati, OH | Safety Zone | 9/21/2003
Louisville 03-014 | Cincinnati, OH | Security Zone | 9/30/2003
Memphis 03-002 | Fort Smith, AR | Safety Zone | 7/4/2003
Miami 03-089 | Viscayan 4th of July Fireworks Display | Safety Zone | 7/4/2003
Miami 03-090 | Fort Lauderdale Yacht Club, 4th of July | Safety Zone | 7/4/2003
Miami 03-091 | American Legion 4th of July Fireworks Display | Safety Zone | 7/4/2003
Miami 03-092 | Fisher Island 4th of July Fireworks Display | Safety Zone | 7/4/2003
Miami 03-101 | City of West Palm Beach 4th of July Fireworks | Safety Zone | 7/4/2003
Miami 03-102 | Bayside Park 4th of July Fireworks Display | Safety Zone | 7/4/2003
Mobile 03-012 | Pascagoula River, Hwy 90, Pascagoula, MS | Safety Zone | 7/8/2003
Mobile 03-014 | Mississippi Sound, Pascagoula, MS | Safety Zone | 7/28/2003
Mobile 03-015 | Apalachicola Bay, Eastpoint, FL | Safety Zone | 7/30/2003
Mobile 03-016 | Gulf of Mexico, Orange Beach, AL | Safety Zone | 8/24/2003
Mobile 03-018 | 300 Yards East and West of Mile Marker 8 | Safety Zone | 9/3/2003
New Orleans 03-017 | LaPlace, LA | Safety Zone | 7/3/2003
New Orleans 03-018 | Casino Magical Canal, Bay St. Louis, MS | Safety Zone | 7/3/2003
New Orleans 03-019 | Donaldsonville, LA | Safety Zone | 7/3/2003
New Orleans 03-020 | Vadalia Bridge, High Way 84, Natchez, MS | Safety Zone | 7/4/2003
New Orleans 03-021 | Yazoo Diversion Canal, Vicksburg, MS | Safety Zone | 7/4/2003
New Orleans 03-022 | Shreveport, LA | Safety Zone | 7/4/2003
New Orleans 03-023 | Luling, LA | Safety Zone | 7/3/2003
New Orleans 03-025 | Gulf of Mexico | Safety Zone | 7/11/2003
New Orleans 03-026 | Venice, LA | Safety Zone | 7/11/2003
New Orleans 03-028 | Baton Rouge, LA | Safety Zone | 8/21/2003
Paducah 03-014 | Upper Miss. River, Cape Girardeau, MO | Safety Zone | 7/4/2003
Paducah 03-015 | Knoxville, TN—Boomsday, Tennessee River Mile | Safety Zone | 8/31/2003
Paducah 03-016 | Riverfest 2003, Cumberland River M 125.2 | Safety Zone | 9/6/2003
Paducah 03-017 | Ohio River, M 932.0 to 935.0, Paducah, KY | Safety Zone | 9/8/2003
Paducah 03-018 | Cumberland River M 191.0 to 192.5, Nashville | Security Zone | 9/8/2003
Pittsburgh 03-007 | Pittsburgh, PA | Safety Zone | 7/11/2003
Pittsburgh 03-011 | Pittsburgh, PA | Safety Zone | 7/18/2003
Pittsburgh 03-012 | Pittsburgh, PA | Safety Zone | 7/27/2003
Pittsburgh 03-013 | Pittsburgh, PA | Safety Zone | 7/26/2003
Pittsburgh 03-015 | Pittsburgh, PA | Safety Zone | 8/2/2003
Pittsburgh 03-016 | Ohio River M 0.0 to M 0.2, Pittsburgh PA | Safety Zone | 9/6/2003
Pittsburgh 03-017 | Pittsburgh, PA | Security Zone | 7/28/2003
Pittsburgh 03-018 | Allegheny River M 0.3 to M 0.7, Pittsburgh | Safety Zone | 9/13/2003
Pittsburgh 03-020 | Monongahela River M 2.2 to M 3.1, Pittsburgh | Safety Zone | 9/6/2003
Port Arthur 03-010 | Neches River, Beaumont, TX | Safety Zone | 7/4/2003
Port Arthur 03-011 | Sabine-Neches Canal, Port Arthur, TX | Safety Zone | 7/4/2003
Port Arthur 03-012 | Port Arthur Ship Canal, Port Arthur, TX | Safety Zone | 7/4/2003
Port Arthur 03-013 | Port Arthur Ship Canal, Port Arthur, TX | Safety Zone | 7/4/2003
Port Arthur 03-015 | Sabine Jetty Channel, Sabine, TX | Safety Zone | 7/16/2003
Port Arthur 03-016 | Sabine Jetty Channel, Sabine, TX | Safety Zone | 7/20/2003
Port Arthur 03-017 | Neches/Sabine Ship Channel, Beaumont, TX | Safety Zone | 7/23/2003
Port Arthur 03-018 | Neches and Sabine Ship Channel, Beaumont, TX | Safety Zone | 7/23/2003
Port Arthur 03-019 | Neches River, Beaumont, TX | Safety Zone | 7/25/2003
Port Arthur 03-021 | Sabine Pass, TX | Safety Zone | 9/9/2003
Port Arthur 03-022 | Outer Bar Channel, Sabine Pass, TX | Safety Zone | 9/11/2003
San Diego 03-026 | Waters Surrounding CG Activities San Diego, CA | Security Zone | 7/8/2003
San Diego 03-028 | San Diego, CA | Safety Zone | 8/5/2003
San Diego 03-029 | San Diego Bay, San Diego, CA | Security Zone | 8/14/2003
San Juan 03-120 | San Juan Bay, San Juan, Puerto Rico | Safety Zone | 7/4/2003
Savannah 03-116 | Brunswick River, Brunswick, GA | Safety Zone | 7/9/2003
Savannah 03-117 | Brunswick River, Brunswick, GA | Safety Zone | 8/16/2003
Savannah 03-122 | Savannah River, Savannah, GA | Safety Zone | 7/4/2003
Savannah 03-123 | Harbortown (Calibogue Sound), SC | Safety Zone | 7/4/2003
Savannah 03-124 | Skull Creek, Hilton Head Island, SC | Safety Zone | 7/4/2003
Savannah 03-126 | Savannah River, Savannah, GA | Security Zone | 7/13/2003
Savannah 03-133 | Savannah River, Savannah, GA | Security Zone | 8/5/2003
Savannah 03-135 | Savannah River, Savannah, GA | Security Zone | 8/15/2003
Savannah 03-139 | Savannah River, Savannah, GA | Security Zone | 8/26/2003
Savannah 03-140 | Savannah River, Savannah, GA | Security Zone | 9/4/2003
Savannah 03-143 | Brunswick River, Brunswick, GA | Safety Zone | 9/12/2003
SF Bay 03-017 | SF Bay, Oakland Inner Harbor, Oakland, CA | Safety Zone | 7/4/2003
SF Bay 03-020 | San Francisco Bay, San Francisco, CA | Safety Zone | 8/8/2003
SF Bay 03-022 | SF Bay, San Francisco, CA | Safety Zone | 9/15/2003
SF Bay 03-022 | San Francisco Bay, San Francisco, CA | Safety Zone | 9/18/2003
St Louis 03-001 | Illinois River M 162.2 to 163.0, Peoria IL | Safety Zone | 7/4/2003
St Louis 03-002 | Fair St. Louis 2003, St Louis, MO | Safety Zone | 7/3/2003
St Louis 03-004 | Upper Miss. River M 556.1 to 557.1 | Safety Zone | 7/4/2003
St Louis 03-005 | Upper Miss. River M 454.5 to 455.5 Mus., IA | Safety Zone | 7/4/2003
St Louis 03-006 | Upper Miss. River M 383.0 to 384.0 | Safety Zone | 7/4/2003
St Louis 03-008 | Upper Miss. River 518.5 to 519.5, Clinton, IA | Safety Zone | 7/2/2003
St Louis 03-009 | Upper Miss. River M 383.0 to 384.0 | Safety Zone | 7/4/2003
St Louis 03-010 | Missouri River, M 28.2-29.0, St. Charles, MO | Safety Zone | 7/4/2003
St Louis 03-011 | Missouri River, Atchison, KS | Safety Zone | 7/26/2003
St Louis 03-012 | Hermann, MO | Safety Zone | 7/4/2003
St Louis 03-013 | Jefferson City, MO | Safety Zone | 7/4/2003
St Louis 03-014 | Chillicothe, IL | Safety Zone | 7/4/2003
St Louis 03-015 | Missouri River, M 373.0-374.0, Riverside | Safety Zone | 9/20/2003
St Louis 03-016 | Missouri River, M 650.5 to 651.5. Blair, NE | Safety Zone | 9/6/2003
St Louis 03-018 | Upper Miss. River M 480.0 to 482.0, Davenport | Safety Zone | 8/20/2003
St Louis 03-019 | Upper Miss. River M 483.0 to 488.2, Moline | Safety Zone | 8/23/2003
St Louis 03-020 | Upper Miss. River M 165.0 to 168.0, St. Louis | Safety Zone | 8/22/2003
St Louis 03-021 | Illinois River 59.0 to 61.0, Valley City | Safety Zone | 8/25/2003
St Louis 03-022 | Upper Miss. River M 158.0 to 162.0, MO | Safety Zone | 8/25/2003

District Quarterly Report—Additional Items Previous Quarters
District docket | Location | Type | Effective date
01-02-049 | Thames River, New London, CT | Special Local Reg. | 6/8/2002
01-02-137 | Quonset Point, RI to Groton, CT | Safety Zone | 11/20/2002
01-03-061 | Barnum Festival Fireworks, Bridgeport, CT | Special Local Reg. | 6/27/2003
01-03-068 | Cape Cod Canal, MA | Drawbridge Op. Reg. | 6/16/2003
05-01-066 | Hampton Roads, VA | Reg Nav Area | 12/15/2002
05-02-007 | Elk River, Chesapeake Bay, MD | Safety Zone | 2/25/2002
05-02-034 | Chesapeake Bay, Hampton Roads, VA | Safety Zone | 6/3/2002
05-03-034 | Amtrak Railroad Bridge, Susquehanna River | Safety Zone | 3/22/2003
05-03-051 | Norfolk Harbor, Elizabeth River, Norfolk | Special Local Reg. | 6/21/2003
05-03-064 | Chesapeake Bay, Hampton Roads | Security Zone | 6/8/2003
05-03-068 | Ocean City, Maryland | Safety Zone | 6/16/2003
05-03-084 | Atlantic Ocean, Chesapeake & Delaware Canal | Security Zone | 5/29/2003
07-02-015 | San Juan, Puerto Rico | Security Zone | 3/1/2002
07-02-063 | Savannah River, City Front Channel, Savannah | Safety Zone | 7/5/2002
07-02-108 | Savannah River, Savannah, GA | Security Zone | 8/30/2002
07-02-111 | Savannah River, Savannah, GA | Security Zone | 9/13/2002
07-02-121 | Savannah River, Savannah, GA | Security Zone | 9/28/2002
09-01-105 | Oswego Harbor, Oswego, NY | Safety Zone | 7/29/2001
09-02-519 | Navy Pier, Lake Michigan, Chicago Harbor, IL | Safety Zone | 9/25/2002
09-03-211 | St. Clair River, Michigan | Safety Zone | 4/21/2003
09-03-225 | Harborfest 2003, South Haven, MI | Safety Zone | 6/14/2003
13-03-015 | Seattle National Maritime Week Tugboat Race | Special Local Reg. | 5/10/2003

COTP Quarterly Report—Additional Items Previous Quarters
COTP docket | Location | Type | Effective date
Louisville 03-001 | Ohio River, M 460 to 480 | Security Zone | 3/31/2003
Miami 02-135 | Port of Miami, FL | Safety Zone | 11/29/2002
Miami 03-103 | Port of Miami, Miami, FL | Safety Zone | 6/27/2003
Miami 03-112 | Atlantic Ocean, Fort Lauderdale, FL | Safety Zone | 6/26/2003
Mobile 01-012 | COTP Mobile, AL Area of Responsibility | Safety Zone | 9/18/2001
Mobile 03-010 | Arlington Channel Turning Basin, Mobile, AL | Security Zone | 3/22/2003
New Orleans 03-003 | LWR Mississippi River, M 94 to 96 | Safety Zone | 1/25/2003
New Orleans 03-007 | LWR Mississippi River | Security Zone | 3/24/2003
New Orleans 03-013 | Red River, M 88.0 to 89.0, Pineville, LA | Safety Zone | 5/3/2003
New Orleans 03-016 | Chalmette, LA | Safety Zone | 6/10/2003
Paducah 03-004 | Tennessee River, M 446 to 454.6 | Safety Zone | 2/15/2003
Paducah 03-013 | Tennessee River, M 446 to 475 | Safety Zone | 5/6/2003
Pittsburgh 03-002 | Pittsburgh, PA | Safety Zone | 4/7/2003
Pittsburgh 03-006 | Allegheny River M 0.3 to M 0.7, Pittsburgh | Safety Zone | 5/24/2003
Pittsburgh 03-008 | Allegheny River, Pittsburgh, PA | Safety Zone | 6/6/2003
Port Arthur 03-008 | Port Arthur Ship Canal, Port Arthur, TX | Safety Zone | 6/16/2003
PWS 03-003 | Prince William Sound, Alaska | Security Zone | 3/22/2003
San Juan 03-062 | San Juan, Puerto Rico | Security Zone | 4/10/2003
Savannah 02-090 | Savannah River, Savannah, GA | Safety Zone | 7/10/2002
Savannah 02-110 | Savannah River, International Trade | Safety Zone | 9/11/2002
Savannah 03-111 | Brunswick River, Brunswick, GA | Safety Zone | 6/26/2003
SF Bay 02-018 | Sacramento River, Sacramento, CA | Safety Zone | 8/3/2002
Tampa 03-006 | Tampa, Saint Petersburg, Port Manatee, FL | Security Zone | 2/28/2003

[FR Doc. 03-27859 Filed 11-4-03; 8:45 am]

BILLING CODE 4910-15-M